NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

NSF issued a permit (ACA 2018-010) to David J. Smith on October 16, 2017. The issued permit allows the permit holder to introduce non-indigenous species into Antarctica. Dormant microbiological samples, pre-loaded into and remaining within a triple containment vessel, were brought to Antarctica to be launched into the Earth's stratosphere as part of NASA's Long Duration Balloon program (LDB). Details about the samples and the containment vessel are provided in the permit (attached). The microbiological samples, still contained within the vessel, will be returned to the USA and the home institution after recovery of the balloon payload.

Now the permit holder proposes a permit modification to extend the dates of the permitted activities with a new permit expiration date of March 31, 2023 to allow for the possibility of a flight aboard an LDB mission in an upcoming austral summer season and the subsequent recovery of the payload. The Environmental Officer has reviewed the modification request and has determined that the amendment is not a material change to the permit, and it will have a less than a minor or transitory impact.

Dates of Permitted Activities: October 16, 2017 to March 31, 2023.

The permit modification was issued on June 19, 2019.
Erika N. Davis,
Program Specialist, Office of Polar Programs.

[FR Doc. 2019-13427 Filed 6-24-19; 8:45 am]

BILLING CODE 7555-01-P